ENVIRONMENTAL PROTECTION AGENCY

[EPA-HQ-OPP-2014-0335; FRL-9921-86]

Pesticide Emergency Exemptions; Agency Decisions and State and Federal Agency Crisis Declarations

AGENCY: Environmental Protection Agency (EPA).

ACTION: Notice.

SUMMARY: EPA has granted or denied emergency exemptions under the Federal Insecticide, Fungicide, and Rodenticide Act (FIFRA) for use of pesticides as listed in this notice. The exemptions or denials were granted during the period July 1, 2014 to September 30, 2014 to control unforeseen pest outbreaks.

FOR FURTHER INFORMATION CONTACT: Susan Lewis, Registration Division (7505P), Office of Pesticide Programs, Environmental Protection Agency, 1200 Pennsylvania Ave. NW., Washington, DC 20460-0001; main telephone number: (703) 305-7090; email address: RDFRNotices@epa.gov.

SUPPLEMENTARY INFORMATION:

I. General Information

A. Does this action apply to me?

You may be potentially affected by this action if you are an agricultural producer, food manufacturer, or pesticide manufacturer. The following list of North American Industrial Classification System (NAICS) codes is not intended to be exhaustive, but rather provides a guide to help readers determine whether this document applies to them. Potentially affected entities may include:

• Crop production (NAICS code 111).

• Animal production (NAICS code 112).

• Food manufacturing (NAICS code 311).

• Pesticide manufacturing (NAICS code 32532).

If you have any questions regarding the applicability of this action to a particular entity, consult the person listed at the end of the emergency exemption or denial.

B. How can I get copies of this document and other related information?

The docket for this action, identified by docket identification (ID) number EPA-HQ-OPP-2014-0335, is available at http://www.regulations.gov or at the Office of Pesticide Programs Regulatory Public Docket (OPP Docket) in the Environmental Protection Agency Docket Center (EPA/DC), West William Jefferson Clinton Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Background

EPA has granted or denied emergency exemptions to the following State and Federal agencies. The emergency exemptions may take the following form: Crisis, public health, quarantine, or specific. EPA has also listed denied emergency exemption requests in this notice.

Under FIFRA section 18 (7 U.S.C. 136p), EPA can authorize the use of a pesticide when emergency conditions exist. Authorizations (commonly called emergency exemptions) are granted to State and Federal agencies and are of four types:

1. A “specific exemption” authorizes use of a pesticide against specific pests on a limited acreage in a particular State. Most emergency exemptions are specific exemptions.

2. “Quarantine” and “public health” exemptions are emergency exemptions issued for quarantine or public health purposes. These are rarely requested.

3. A “crisis exemption” is initiated by a State or Federal agency (and is confirmed by EPA) when there is insufficient time to request and obtain EPA permission for use of a pesticide in an emergency.

EPA may deny an emergency exemption: If the State or Federal agency cannot demonstrate that an emergency exists, if the use poses unacceptable risks to the environment, or if EPA cannot reach a conclusion that the proposed pesticide use is likely to result in “a reasonable certainty of no harm” to human health, including exposure of residues of the pesticide to infants and children.

If the emergency use of the pesticide on a food or feed commodity would result in pesticide chemical residues, EPA establishes a time-limited tolerance meeting the “reasonable certainty of no harm standard” of the Federal Food, Drug, and Cosmetic Act (FFDCA).

In this document: EPA identifies the State or Federal agency granted the exemption or denial, the type of exemption, the pesticide authorized and the pests, the crop or use for which authorized, and the duration of the exemption. EPA also gives the Federal Register citation for the time-limited tolerance, if any.

III. Emergency Exemptions and Denials

A. U.S. States and Territories

Arkansas

State Plant Board

Specific Exemption: EPA authorized the use of sulfoxaflor on sorghum to control sugarcane aphid; July 2, 2014 to October 31, 2014.

Colorado

Department of Agriculture

Specific Exemption: EPA authorized the use of potassium salt of hop beta acids in beehives to control varroa mite; August 25, 2014 to December 31, 2014.

Florida

Department of Agriculture and Consumer Services

Specific Exemption: EPA authorized the use of clothianidin on immature (3 to 5 years old) citrus trees to manage transmission of Huanglongbing (HLB) disease vectored by the Asian citrus psyllid; September 12, 2014 to October 31, 2014.

Specific Exemption: EPA authorized the use of sulfoxaflor on sorghum to control sugarcane aphid; September 24, 2014 to December 31, 2014.

Georgia

Department of Agriculture

Specific Exemption: EPA authorized the use of sulfoxaflor on sorghum to control sugarcane aphid; September 11, 2014 to November 30, 2014.

Idaho

Department of Agriculture

Crisis Exemption: On July 31, 2014, for use of hexythiazox on sugar beet to control two-spotted spider mites. This program ended on September 30, 2014.

Missouri

Department of Agriculture

Specific Exemption: EPA authorized the use of sulfoxaflor on sorghum to control sugarcane aphid; September 11, 2014 to November 30, 2014.

New Jersey

Department of Environmental Protection

Specific Exemption: EPA authorized the use of bifenthrin on apple, peach, and nectarine to control the brown marmorated stinkbug; July 3, 2014 to October 15, 2014.

Specific Exemption: EPA authorized the use of dinotefuran on pome and stone fruit to control the brown marmorated stinkbug; July 3, 2014 to October 15, 2014.

Oregon

Department of Agriculture

Specific Exemption: EPA authorized the use of fipronil on turnip and rutabaga to control the cabbage maggot; July 7, 2014 to October 15, 2014. EPA authorized the use because available alternatives are not suitable or do not provide adequate control to avoid significant economic losses under the increasing pest populations with resistance development suspected. Since this use has been requested for more than 5 years and an application for registration has not yet been received by EPA, a Notice of Receipt with opportunity for public comment published in the Federal Register, as required by 40 CFR 166.24, on June 4, 2014 (79 FR 32282) (FRL-9910-88) with public comment period closing on June 19, 2014.

Crisis Exemption: On July 31, 2014, for use of hexythiazox on sugar beet to control two-spotted spider mites. This program ended on September 30, 2014.

Tennessee

Department of Agriculture

Specific Exemption: EPA authorized the use of sulfoxaflor on sorghum to control sugarcane aphid; August 18, 2014 to October 31, 2014.

Specific Exemption: EPA authorized the use of potassium salt of hop beta acids in beehives to control varroa mite; August 25, 2014 to December 31, 2014.

Texas

Department of Agriculture

Denial: On July 18, 2014, EPA denied the use of a pesticide product containing the active ingredient propazine on cotton to control glyphosate-resistant Palmer amaranth. This request was denied because the Agency was unable to conclude that the proposed pesticide use is likely to result in “a reasonable certainty of no harm” to human health, including exposure of residues of the pesticide to infants and children as required under the Food Quality Protection Act (FQPA).

Authority: 7 U.S.C. 136 et seq.

Dated: January 30, 2015.
Susan Lewis,
Director, Registration Division, Office of Pesticide Programs.

[FR Doc. 2015-02308 Filed 2-4-15; 8:45 am]

BILLING CODE 6560-50-P